DEPARTMENT OF THE INTERIOR

Fish and Wildlife Service

Vieques National Wildlife Refuge

AGENCY: Fish and Wildlife Service.

ACTION: Notice of intent to prepare a Comprehensive Conservation Plan and Environmental Impact Statement for Vieques National Wildlife Refuge, located in the Commonwealth of Puerto Rico.

SUMMARY: This notice advises the public that the Fish and Wildlife Service, Southeast Region, intends to gather information necessary to prepare a comprehensive conservation plan and environmental impact statement pursuant to the National Environmental Policy Act and its implementing regulations. The Service is furnishing this notice in compliance with the National Wildlife Refuge System Administration Act of 1966, as amended (16 U.S.C. 668dd et seq.), to achieve the following:

(1) Advise other agencies and the public of our intentions, and

(2) Obtain suggestions and information on the scope of issues to include in the environmental document.

Special mailings, newspaper articles, and other media announcements will be used to inform Commonwealth and Municipal governments and the public of the opportunities for input throughout the planning process.

ADDRESSES: Address comments, questions, and requests for more information to the following: Ms. Susan Silander, Project Leader, Caribbean Islands National Wildlife Refuge Complex, P.O. Box 510, Boqueron, Puerto Rico 00622, Telephone: 787/851-7258; Fax: 787/851-7440; E-mail: CaribbeanIsland@fws.gov.

SUPPLEMENTARY INFORMATION: By Federal law, all lands within the National Wildlife Refuge System are to be managed in accordance with an approved comprehensive conservation plan. The plan guides management decisions and identifies refuge goals, long-range objectives, and strategies for achieving refuge purposes. The planning process will consider many elements including wildlife and habitat management, public recreational activities, and cultural resource protection. Public input in the planning process is essential as the Service establishes management priorities and explores opportunities for non-invasive and low-impact activities such as ecotourism. Restoration of degraded habitats through reforestation, reestablishment of hydrology, and removal of exotic species will be a priority.

Vieques National Wildlife Refuge, comprising just over 18,000 acres, is the largest national wildlife refuge in Puerto Rico. The refuge includes beaches used by threatened and endangered sea turtles for nesting, subtropical dry forests, mangrove lagoons, salt flats, and bioluminescent bays.

Authority: This notice is published under the authority of the National Wildlife Refuge System Improvement Act of 1997, Public Law 105-57.

Dated: July 28, 2003.
J. Mitch King,
Acting Regional Director.

[FR Doc. 03-22380 Filed 9-2-03; 8:45 am]

BILLING CODE 4310-55-M